DEPARTMENT OF TRANSPORTATION

Coast Guard

33 CFR Part 160

[USCG-2001-10689]

RIN 2115-AG47

Temporary Requirements for Notification of Arrival in U.S. Ports

AGENCY: Coast Guard, DOT.

ACTION: Notice of proposed rulemaking; change of effective period of temporary rule.

SUMMARY: The Coast Guard proposes to extend to March 31, 2003, the effective period for the temporary rule on notification of arrival requirements. Extension of the effective period would ensure sufficient time to complete the rulemaking. Continuing the temporary rule in effect while the permanent rulemaking is in progress will help to ensure the security of our ports and the uninterrupted flow of maritime commerce during that period.

DATES: Comments and related material must reach the Docket Management Facility on or before August 22, 2002. Comments sent to the Office of Management and Budget (OMB) on collection of information must reach OMB on or before August 22, 2002.

ADDRESSES: To make sure that your comments and related material are not entered more than once in the docket, please submit them by only one of the following means:

(1) By mail to the Docket Management Facility (USCG-2001-10689), U.S. Department of Transportation, room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web site for the Docket Management System at http://dms.dot.gov/.

You must also mail comments on collection of information to the Office of Information and Regulatory Affairs, Office of Management and Budget, 725 17th Street NW., Washington, DC 20503, ATTN: Desk Officer, U.S. Coast Guard.

The Docket Management Facility maintains the public docket for this rulemaking. Comments and material received from the public, as well as documents mentioned in this preamble as being available in the docket, will become part of this docket and will be available for inspection or copying at room PL-401 on the Plaza level of the Nassif Building, 400 Seventh Street SW., Washington, DC, between 9 a.m. and 5 p.m., Monday through Friday, except Federal holidays. You may also find this docket on the Internet at http://dms.dot.gov.

FOR FURTHER INFORMATION CONTACT: If you have questions on this rule, call LTJG Marcus A. Lines, U.S. Coast Guard (G-MMP), at 202-267-6854. If you have questions on viewing or submitting material to the docket, call Dorothy Beard, Chief, Dockets, Department of Transportation, at 202-366-5149.

SUPPLEMENTARY INFORMATION:

Request for Comments

We encourage you to participate in this rulemaking. This proposed rule would extend the effective period of the temporary final rule entitled “Temporary Requirements for Notification of Arrival in U.S. Ports” that was published in the Federal Register on October 4, 2001 (66 FR 50565) and amended on November, 19, 2001 (66 FR 57877), on January 18, 2002 (67 FR 2571), and on May 30, 2002 (67 FR 3782). Comments and related materials addressing the extension of the effective period of the temporary rule should include your name and address, identify the docket number for this rulemaking (USCG-2001-10689), indicate the specific section of this document to which each comment applies, and give the reason for each comment. You may submit your comments and material by mail, hand delivery, fax, or electronic means to the Docket Management Facility at the address under ADDRESSES; please submit your comments and material by only one means. If you submit them by mail or hand delivery, submit them in an unbound format, no larger than 81/2 by 11 inches, suitable for copying and electronic filing. If you submit them by mail and would like to know that they reached the Facility, please enclose a stamped, self-addressed postcard or envelope. We will consider all comments and materials received during the comment period. We may change this proposed rule in view of them.

Public Meeting

We do not now plan to hold a public meeting. You may submit a request for one to the Docket Management Facility at the address under ADDRESSES explaining why one would be beneficial. If we determine that one would aid this rulemaking, we will hold one at a time and place announced by a later notice in the Federal Register.

Regulatory History

On October 4, 2001, we published a temporary final rule entitled “Temporary Requirements for Notification of Arrival in U.S. Ports” in the Federal Register (66 FR 50565). Subsequently, we published two corrections in the Federal Register [November 19, 2001 (66 FR 57877)] and [January 18, 2002 (67 FR 2571)]. On May 30, 2002, we extended the effective period of the temporary rule through September 30, 2002 (67 FR 37682).

Background and Purpose

We published a related notice of proposed rulemaking (NPRM) to make permanent changes to the notice of arrival requirements [”Notification of Arrival in U.S. Ports” June 19, 2002 (67 FR 41659)]. We expected the extension of the temporary rule through September 30, 2002, would have provided us enough time to complete the permanent changes to the notice of arrival requirements. Now, however, we propose to further extend the effective period of the temporary rule until March 31, 2003, to ensure sufficient time to complete the changes. Continuing the temporary rule in effect while the permanent rulemaking is in progress will help to ensure the security of our ports and the uninterrupted flow of maritime commerce during that period.

Regulatory Evaluation

This proposal is not a “significant regulatory action” under section 3(f) of Executive Order 12866, Regulatory Planning and Review, and does not require an assessment of potential costs and benefits under section 6(a)(3) of that Order. It has not been reviewed by the Office of Management and Budget under that Order. It is not “significant” under the regulatory policies and procedures of the Department of Transportation (DOT)[February 26, l979 (44 FR 11040)].

As discussed in the preamble, the Coast Guard has temporarily changed the notice of arrival (NOA) regulations and proposes to extend the effective period of those requirements until March 31, 2003. When assessing the impact of the temporary requirements, we estimated that providing the Coast Guard with the additional information about passengers, crew, and cargo will impose minimal burden on vessels already complying with the notification requirements of 33 CFR part 160, subpart C. As explained below, the total cost to extend the effective period of the temporary rule should not exceed $377,324:

Cost and Burden. Coast Guard data on Notification of Arrival information for 1998 and 1999 were used to estimate the maximum populations that would be affected by this proposal. Table 1 categorizes the affected vessel population into four sub-populations. They are:

• “Non-AMVER/Non-Great Lakes Vessels”—vessels already required to comply with NOA regulations;

• “AMVER”—vessels complying with the Automated Mutual Assistance Vessel Rescue system and that were exempt from NOA requirements prior to the temporary rule;

• “Great Lakes Vessels”—vessels greater than 300 gross tons, on Great Lakes routes, that were exempt from NOA requirements prior to the temporary rule; and

• “Vessels on Scheduled Routes”—vessels operating upon a route that is described in a schedule that is submitted to the Captain of the Port for each port or place of destination listed in the schedule. The table also sets out the number of vessels and their total number of U.S. port calls (arrivals) for each vessel sub-population.

Table 1.—Number of Vessels and U.S. Port Calls for 1998 and 1999*
| 1998 | 1999 | Annual average | Monthly average
Non-AMVER/Non-Great Lakes Vessels | 9,795 | 9,538 | 9,667 | NA
U.S. Port Calls | 63,090 | 63,482 | 63,286 | 5,274
AMVER Vessels | 625 | 609 | 617 | NA
U.S. Port Calls | 4,027 | 4,052 | 4,040 | 337
Great Lakes Vessels | 83 | 82 | 83 | NA
U.S. Port Calls | 840 | 786 | 813 | 68
Totals Vessels | 10,503 | 10,229 | 10,367 | NA
U.S. Port Calls | 67,957 | 68,320 | 68,139 | 5,679
* These estimates include vessels on scheduled routes that will experience about the same costs as the other vessels in this population.

Vessels less than 300 gross tons making ports of call in the Seventh Coast Guard District have to file NOA reports with the COTP. This proposal would maintain the requirement, and the estimate of the vessels and port calls presented in Table 1 accounted for this special group.

Before the temporary final rule, vessels had to file multiple NOA reports if they were visiting multiple U.S. ports on the same voyage. Under the temporary rule, vessels making calls to multiple U.S. ports do not have to file multiple NOA reports; rather, the temporary rule allows a single report listing all destinations in the United States along with estimated arrival dates for each port. The Coast Guard did not collect or maintain information on the number of vessels that made multiple U.S. port calls under separate NOA reports to estimate the number of consolidated reports under the temporary rule. The totals above, therefore, represent a conservative estimate, a “worst-case scenario,” of the numbers of vessels and NOA reports that would be affected by this proposal.

Finally, vessels that make scheduled trips outside of their COTP zones would no longer be exempt from reporting requirements. We do not know how many of these vessels and port calls exist, though we know they are included in the population of non-AMVER/non-Great Lakes vessels. For the purposes of analysis, these vessels and port calls are included in the non-AMVER/non-Great Lakes population.

Cost of the Temporary Rule

Minimal burden would be imposed on vessels whose applicability to the NOA reporting requirements was upheld by the temporary rule. The cargo, crew, and passenger information these vessels provide to the Coast Guard is already collected on a form submitted to the Immigration and Naturalization Services (INS) (INS form I-418). We assumed 10 minutes (0.167 hours) would be spent retrieving and transmitting the cargo, crew, and passenger information. We assumed that there would be a $2 transmittal fee (fax, email, telephone, etc.) to provide this information to the Coast Guard. We assumed that clerical labor would complete these tasks at a cost of $31.00 per hour (loaded labor rate, 2001). Based on 1998 and 1999 data, we estimated 31,644 port calls would be made over this extension period (6 months-until March 31, 2003). The summary of unit costs and total rulemaking costs for non-AMVER/non-Great Lakes vessels is presented in Table 2.

Table 2.—Total Rulemaking Costs for Non-AMVER/Non-Great Lakes Vessels
[October 2002-March 2003] *
Port calls during temporary rule | Labor hours per port call | Labor hours during temporary rule | Cost per labor hour | Cost per information transmittal | Total rulemaking cost for these vessels
31,644 | 0.167 | 5,274 | $31.00 | $2.00 | $226,782
Detail may not calculate to total due to independent rounding.
* These estimates include vessels on scheduled routes that will experience about the same costs as the other vessels in this population.

Vessels that were exempt from NOA requirements before the original effective period of the temporary rule would, as a result of this proposal, continue to provide the Coast Guard with NOA reports in addition to providing the cargo, crew, and passenger information until March 31, 2003. These vessels (AMVER and vessels that transit only the Great Lakes) would incur cost by extending the effective period of the temporary rule that requires them to submit an NOA report. Based on the OMB-approved Collection of Information for NOA (OMB-2115-0557), we estimated that it would take 10 minutes (0.167 hours) to complete the report, plus an additional 5 minutes (0.083 hours) for the general description of the cargo. We assumed that clerical labor would complete the report at a cost of $31.00 per hour. Additionally, these vessels would need to develop and submit the cargo, crew, and passenger information. Based on information from the INS (OMB-1115-0083), it will require 60 minutes (1.000 hour) to complete both lists, for a total of 75 minutes (1.250 hours) for the entire submission (NOA report, cargo description, crew and passenger information). There would be a $2 transmittal fee to provide the information to the Coast Guard. Based on 1998 and 1999 data, we estimated that 2,427 port calls would be made over the time period of this rulemaking. The summary of unit costs and total rulemaking costs for AMVER/Great Lakes vessels is presented in Table 3.

Table 3.—Total Rulemaking Costs for AMVER/Great Lakes Vessels
[October 2002-March 2003]
Port calls during temporary rule | Labor hours per port call | Labor hours during temporary rule | Cost per labor hour | Cost per information transmittal | Total rulemaking cost for these vessels
2,427 | 1.250 | 3,033 | $31.00 | $2.00 | $98,870
Detail may not calculate to total due to independent rounding.

Finally, all vessels affected would continue to communicate with the National Vessel Movement Center (NVMC) upon departure from a U.S. port when their next port of call is also a U.S. port. Vessels are to phone or fax the date of departure to the NVMC along with the name of the port just departed. The NVMC will transmit this information to the COTP in the next port of call. We assumed that reporting this would require 1 minute (0.017 hours) per departure and that clerical labor ($31.00 per hour) would make the call or send the fax. We assumed the transmittal fee would be $1.00 per call/fax. There will be an estimated 34,071 departures over the 6-month extension period of the temporary rule (until March 31, 2003). The cost and burden for notifying NVMC of the date of departure and last port of call is presented in Table 4.

Table 4.—Total Rulemaking Costs for Providing NVMC with Date of Departure and Last Port of Call Information
[October 2002-March 2003]
Port departures during temporary rule | Labor hours per port call | Labor hours during temporary rule | Cost per labor hour | Cost per information transmittal | Total rulemaking cost for these vessels
34,071 | 0.017 | 568 | $31.00 | $1.00 | $51,672
Detail may not calculate to total due to independent rounding.

The total cost and burden of the rule is presented in Table 5.

Table 5.—Total Rulemaking Cost for All Affected Vessels
[October 2002-March 2003]*
| Arrivals/departures | Cost per arrival/departure | Burden per arrival/departure (hours) | Total rulemaking cost | Total rulemaking burden
Arr. Non-AMVER/Non-Great Lakes | 31,644 | $7.17 | 0.167 | $226,782 | 5,274
Arr. AMVER/Great Lakes | 2,427 | 40.75 | 1.250 | 98,870 | 3,033
Dep. all vessels | 34,071 | 1.52 | 0.017 | 51,672 | 568
Totals | 68,142 |  |  | $377,324 | 8,875
Detail may not calculate to total due to independent rounding.
* These estimates include vessels on scheduled routes that will experience about the same costs as the other vessels in this population.

Need for the Temporary Rule

This proposal would ensure the timely receipt of advance information about vessels, cargo, and people entering U.S. ports and would help minimize disruption to commerce. The additional information required by this proposal would increase security and provide protection for the nation's ports and waterways. There would be some savings from the consolidated NOA submission for two or more consecutive arrivals at U.S. ports.

Small Entities

Under the Regulatory Flexibility Act (5 U.S.C. 601-612), we have considered whether this proposal would have a significant economic impact on a substantial number of small entities. The term “small entities” comprises small businesses, not-for-profit organizations that are independently owned and operated and are not dominant in their fields, and governmental jurisdictions with populations of less than 50,000.

The Coast Guard certifies under 5 U.S.C. 605(b) that this proposal would not have a significant economic impact on a substantial number of small entities. If you think that your business, organization, or governmental jurisdiction qualifies as a small entity and that this proposal will have a significant economic impact on it, please submit a comment to the Docket Management Facility at the address under ADDRESSES. In your comment, explain why you think it qualifies and how and to what degree this proposal would economically affect it.

Assistance for Small Entities

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This proposal would extend the effective period of an existing collection of information under the Paperwork Reduction Act of 1995 (44 U.S.C. 3501-3520). As defined in 5 CFR 1320.3(c), “collection of information” comprises reporting, recordkeeping, monitoring, posting, labeling, and other, similar actions. The title and description of the information collection, a description of those who would be required to collect the information, and an estimate of the total annual burden follow. The estimate covers the time for reviewing instructions, searching existing sources of data, gathering and maintaining the data needed, and completing and reviewing the collection.

Title: Advance Notice of Vessel Arrival and Departure.

OMB Control Number: 2115-0557.

Summary of the Collection of Information: The Coast Guard requires pre-arrival messages from any vessel entering a port or place in the United States. This proposal would extend the effective period of the temporary notice of arrival requirements to March 31, 2003.

Need for Information: To ensure port safety and security and to ensure the uninterrupted flow of commerce, the Coast Guard proposes to extend the effective period of the temporary notice of arrival requirements.

Proposed Use of Information: Extending the NOA information reported would enable the control of vessel traffic, the development of contingency plans, and the enforcement of regulations.

Description of the Respondents: The respondents are owners, agents, masters, operators, or persons in charge of vessels bound for or departing from U.S. ports.

Number of Respondents: The existing OMB-approved collection number of respondents is 10,367. Extending the temporary rule would not increase the total number of respondents.

Frequency of Response: The existing OMB-approved collection annual number of responses is 136,278. Extending the temporary rule would not increase the total number of responses.

Burden of Response: The existing OMB-approved collection burden of response is 15 minutes (0.250 hours). Extending the temporary rule would not increase the burden.

Estimate of Total Annual Burden: The existing OMB-approved collection total annual burden is 39,037 hours. Extending the temporary rule would not increase the total annual burden.

As required by the Paperwork Reduction Act of 1995 (44 U.S.C. 3507(d)), we submitted a copy of this proposal to the Office of Management and Budget (OMB) for its review of the collection of information. Due to the circumstances surrounding this temporary rule, we asked for “emergency processing” of our request. We received OMB approval for the collection of information on September 26, 2001. It is valid until September 30, 2002, and we are requesting it be extended until March 31, 2003.

We ask for public comment on the collection of information to help us determine how useful the information is; whether it can help us perform our functions better; whether it is readily available elsewhere; how accurate our estimate of the burden of collection is; how valid our methods for determining burden are; how we can improve the quality, usefulness, and clarity of the information; and how we can minimize the burden of collection.

If you submit comments on the collection of information, submit them both to OMB and to the Docket Management Facility where indicated under ADDRESSES, by the date under DATES.

You need not respond to a collection of information unless it displays a currently valid control number from OMB.

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such an expenditure, the effects of this rule are discussed elsewhere in this preamble.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This proposed rule is not an economically significant rule and does not create an environmental risk to health or risk to safety that may disproportionately affect children.

Indian Tribal Governments

This proposed rule does not have tribal implications under Executive Order 13175, Consultation and Coordination with Indian Tribal Governments, because it does not have a substantial direct effect on one or more Indian tribes, on the relationship between the Federal Government and Indian tribes, or on the distribution of power and responsibilities between the Federal Government and Indian tribes.

To help the Coast Guard establish regular and meaningful consultation and collaboration with Indian and Alaskan Native tribes, we published a notice in the Federal Register (66 FR 36361, July 11, 2001) requesting comments on how to best carry out the Order. We invite your comments on how this rule might impact tribal governments, even if that impact may not constitute a “tribal implication” under the Order.

Energy Effects

We have analyzed this proposed rule under Executive Order 13211, Actions Concerning Regulations that Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this proposed rule and concluded that under figure 2-1, paragraph (34)(a), of Commandant Instruction M16475.lD, this rule is categorically excluded from further environmental documentation. This proposed rule would extend the effective period of the changes to the requirements established in the notification of arrival regulations. They are procedural in nature and therefore are categorically excluded. A “Categorical Exclusion Determination” is available in the docket where indicated under ADDRESSES.

List of Subjects in 33 CFR Part 160

Administrative practice and procedure; Harbors; Hazardous materials transportation; Marine safety; Navigation (water); Reporting and recordkeeping requirements; Vessels; Waterways.

For the reasons discussed in the preamble, the Coast Guard proposes to amend 33 CFR part 160 as follows:

PART 160—PORTS AND WATERWAYS SAFETY—GENERAL

Subpart C—Notifications of Arrival, Departures, Hazardous Conditions, and Certain Dangerous Cargoes

1. The authority citation for part 160 continues to read as follows:

Authority: 33 U.S.C. 1223, 1226, 1231; 49 CFR 1.46.

§ 160.201 [Amended]

2. In § 160.201, paragraphs (c) and (d), which were suspended at 66 FR 50565, October 4, 2001, from October 4, 2001, until June 15, 2002, and further suspended at 67 FR 37682, May 30, 2002, until September 30, 2002, will continue to be suspended through March 31, 2003; and paragraphs (e) and (f), added at 66 FR 50565, October 4, 2001, effective October 4, 2001, until June 15, 2002, extended in effect at 67 FR 37682, May 30, 2002, until September 30, 2002, and paragraph (g), added at 66 FR 50565, October 4, 2001, effective October 4, 2001, until June 15, 2002, amended by 66 FR 57877, November 19, 2001, extended in effect at 67 FR 37682, May 30, 2002, until September 30, 2002, are extended in effect through March 31, 2003.

§ 160.203 [Amended]

3. In § 160.203, the definition of “certain dangerous cargo,” which was suspended at 66 FR 50565, October 4, 2001, from October 4, 2001, until June 15, 2002, and further suspended at 67 FR 37682, May 30, 2002, until September 30, 2002, will continue to be suspended through March 31, 2003; and the definitions for “certain dangerous cargo”, “crewmember”, “nationality”, and “persons in addition to crewmembers” which were added at 66 FR 50565, October 4, 2001, effective October 4, 2001, until June 15, 2002, extended in effect at 67 FR 37682, May 30, 2002, until September 30, 2002, are extended in effect through March 31, 2003.

§ 160.T204 [Amended]

4. Section 160.T204, which was added at 66 FR 50565, October 4, 2001, effective October 4, 2001, until June 15, 2002, extended in effect at 67 FR 37682, May 30, 2002, until September 30, 2002, is extended in effect though March 31, 2003.

§ 160.207 [Amended]

5. Section 160.207, which was suspended at 66 FR 50565, October 4, 2001, from October 4, 2001, until June 15, 2002, and further suspended at 67 FR 37682, May 30, 2002, until September 30, 2002, will continue to be suspended through March 31, 2003.

§ 160.T208 [Amended]

6. Section 160.T208, which was added at 66 FR 50565, October 4, 2001, effective October 4, 2001, until June 15, 2002, and amended by 66 FR 57877, November 19, 2001, and by 67 FR 2571, January 18, 2002, and extended in effect at 67 FR 37682, May 30, 2002, until September 30, 2002, is extended in effect though March 31, 2003.

§ 160.211 [Amended]

7. Section 160.211, which was suspended at 66 FR 50565, October 4, 2001, from October 4, 2001, until June 15, 2002, and further suspended at 67 FR 37682, May 30, 2002, until September 30, 2002, will continue to be suspended through March 31, 2003.

§ 160.T212 [Amended]

8. Section 160.T212, which was added at 66 FR 50565, October 4, 2001, effective October 4, 2001, until June 15, 2002, amended by 66 FR 57877, November 19, 2001, and extended in effect at 67 FR 37682, May 30, 2002, until September 30, 2002, is extended in effect though March 31, 2003.

§ 160.213 [Amended]

9. Section 160.213, which was suspended at 66 FR 50565, October 4, 2001, from October 4, 2001, until June 15, 2002, and further suspended at 67 FR 37682, May 30, 2002, until September 30, 2002, will continue to be suspended through March 31, 2003.

§ 160.T214 [Amended]

10. Section 160.T214, which was added at 66 FR 50565, October 4, 2001, effective October 4, 2001, until June 15, 2002, amended by 66 FR 57877, November 19, 2001, and extended in effect at 67 FR 37682, May 30, 2002, until September 30, 2002, is extended in effect though March 31, 2003.

Dated: July 18, 2002.
Joseph J. Angelo,
Acting Assistant Commandant for Marine Safety, Security, and Environmental Protection.

[FR Doc. 02-18596 Filed 7-18-02; 3:59 pm]

BILLING CODE 4910-15-P